DEPARTMENT OF COMMERCE

National Oceanic and Atmospheric Administration

[I.D. 120505C]

Large Coastal Shark 2005/2006 Review Workshop

AGENCY: National Marine Fisheries Service (NMFS), National Oceanic and Atmospheric Administration (NOAA), Commerce.

ACTION: Notice; public workshop.

SUMMARY: NMFS announces the time and location for the large coastal shark (LCS) Review workshop, the last of three workshops for the LCS stock assessment being conducted in 2005/2006.

DATES: The Review workshop will start at 1 p.m. on Monday, June 5, 2006, and will conclude at 1 p.m. on Friday, June 9, 2006.

ADDRESSES: The Review workshop will be held at the Bay Point Marriott Resort, 4200 Marriott Drive, Panama City Beach, FL 32408.

FOR FURTHER INFORMATION CONTACT: Julie Neer at (850) 234-6541; or Karyl Brewster-Geisz at (301) 713-2347, fax (301) 713-1917.

SUPPLEMENTARY INFORMATION: The Atlantic shark fisheries are managed under the authority of the Magnuson-Stevens Fishery Conservation and Management Act. The Fishery Management Plan for Atlantic Highly Migratory Species (HMS FMP) is implemented by regulations at 50 CFR part 635.

Stock assessments are periodically conducted to determine stock status relative to current management criteria. Collecting the best available scientific data and conducting stock assessments are critical to determine appropriate management measures for rebuilding stocks. Based on the last LCS stock assessment in 2002, NMFS determined that the LCS complex is overfished and overfishing is occurring. LCS are currently under a 26-year rebuilding plan. Potential changes to existing management measures will be based, in large part, on the results of this 2005/2006 stock assessment.

This assessment will be conducted in a manner similar to the Southeast Data, Assessment, and Review (SEDAR) process. SEDAR is a cooperative process initiated in 2002 to improve the quality and reliability of fishery stock assessments in the South Atlantic, Gulf of Mexico, and U.S. Caribbean. SEDAR emphasizes constituent and stakeholder participation in assessment development, transparency in the assessment process, and a rigorous and independent scientific review of completed stock assessments. SEDAR is organized around three workshops. The first workshop is a Data workshop where datasets are documented, analyzed, reviewed, and compiled for conducting assessment analyses. This workshop was held from October 31 through November 4, 2005, in Panama City, FL. The second workshop is an Assessment workshop where quantitative population analyses are developed and refined and population parameters are estimated. This workshop was held from February 6 through February 10, 2006, in Miami, FL. The last workshop is a Review workshop where a panel of independent experts reviews the data and assessment and recommends the most appropriate values of critical population and management quantities. All workshops are open to the public. More information on the SEDAR process can be found at http://www.sefsc.noaa.gov/sedar/.

NMFS announces the Review workshop, the last of three workshops for the LCS 2005/2006 stock assessment, which will be held from June 5 through June 9, 2006, at the Bay Point Marriott Resort in Panama City Beach, FL (see DATES and ADDRESSES). Prospective participants and observers will be contacted with the Review workshop details. This workshop is open to the public. Persons interested in participating or observing the Review workshop should contact Julie Neer (see FOR FURTHER INFORMATION CONTACT).

Special Accommodations

These meetings are physically accessible to people with disabilities. Requests for sign language interpretation or other auxiliary aids should be directed to Julie Neer at (850) 234-6541 by May 29, 2006.

Authority: 16 U.S.C. 971 et seq.

Dated: March 3, 2006.
Alan D. Risenhoover,
Acting Director, Office of Sustainable Fisheries, National Marine Fisheries Service.

[FR Doc. E6-3359 Filed 3-8-06; 8:45 am]

BILLING CODE 3510-22-S